DEPARTMENT OF COMMERCE

International Trade Administration

[A-570-806]

Silicon Metal from the People's Republic of China: Notice of Extension of Time Limit for Final Results of 2006-2007 Antidumping Duty Administrative Review

AGENCY: Import Administration, International Trade Administration, Department of Commerce.

EFFECTIVE DATE: July 10, 2008.

FOR FURTHER INFORMATION CONTACT: Scot T. Fullerton or Susan Pulongbarit, AD/CVD Operations, Office 9, Import Administration, International Trade Administration, U.S. Department of Commerce, 14th Street and Constitution Avenue, NW., Washington, DC 20230; telephone: (202) 482-1386 or (202) 482-4031, respectively.

Background

On March 7, 2008, the Department of Commerce (“the Department”) published in the Federal Register the preliminary results and partial rescission of this antidumping duty administrative review. Silicon Metal From the People's Republic of China: Preliminary Results and Preliminary Partial Rescission of Antidumping Duty Administrative Review, 73 FR 12378 (March 7, 2008). The period of review for this administrative review is June 1, 2006 to May 31, 2007.

Extension of Time Limits for Final Results

Pursuant to section 751(a)(3)(A) of the Tariff Act of 1930, as amended (“the Act”), and section 351.213(h)(1) of the Department's regulations, the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

In the instant review, the Department finds that the current deadline for the final results of July 7, 2008, is not practicable. The Department requires additional time to review and analyze interested party comments related to alleged transshipment of Chinese-origin silicon metal through Canada. As a result, the Department has determined to extend the current time limits of this administrative review. For these reasons, the Department is extending by 30 days the time limit for the completion of these final results until no later than August 4, 2008.

This notice is issued and published in accordance with sections 751(a)(3)(A) and 777(i) of the Act.

Dated: July 2, 2008.
Gary S. Taverman,
Acting Deputy Assistant Secretary for Import Administration.

Error! Main Document Only.

[FR Doc. E8-15746 Filed 7-9-08; 8:45 am]

BILLING CODE 3510-DS-P